DEPARTMENT OF DEFENSE

Office of the Secretary; Preparation of a Supplemental Environmental Impact Statement for the Airborne Laser Program

AGENCY: Missile Defense Agency (MDA), Department of Defense.

ACTION: Notice of intent.

SUMMARY: The Missile Defense Agency is preparing a Supplement to the Final Environmental Impact Statement (FEIS) for the Program Definition and Risk Reduction (PDRR) Phase of the Airborne Laser (ABL) Program (April 1997) and Record of Decision (September 1997). This Supplemental Environmental Impact Statement (SEIS) will analyze proposed ABL Program test activities at Kirtland Air Force Base (KAFB), Holloman Air Force Base (HAFB), and White Sands Missile Range (WSMR), New Mexico; and Edwards Air Force Base (EAFB), Vandenberg Air Force Base (VAFB), and the Adjacent Point Mugu Naval Air Warfare Center (PMNAWC) Sea Range, California. The SEIS will be prepared in accordance with the National Environmental Policy Act, as amended (42 U.S.C. 4321, et seq.), and the Council on Environmental Quality Regulations for implementing the procedural provisions of NEPA (40 CFR parts 1500-1508). The ABL is a laser weapon system installed on a Boeing 747-400F aircraft capable of operating for extended periods of time. Up to two such aircraft would be developed. The ABL weapon system is proposed to include four lasers:

• Active Ranging System (ARS) Laser (a small carbon dioxide laser used to begin tracking a target),

• Track Illuminator Laser (TILL), (a solid state laser used to provide detailed tracking of a target),

• Beacon Illuminator Laser (BILL), (a solid state laser used to measure atmospheric distortion), and

• High-Energy Laser (HEL), (i.e., Chemical Oxygen-Iodine Laser (COIL)—a chemical laser used to destroy a target).

An additional laser, a surrogate for the High-Energy Laser (SHEL), will be used during testing in place of the HEL. The SHEL is a low-power solid-state laser that would be used in both ground- and flight-testing. The ABL also would include an Infrared Search and Track sensor (IRST) (a passive infrared device used to identify heat sources). The 1997 PDRR ABL FEIS analyzed use of a COIL HEL on board an aircraft to destroy ballistic missiles in the boost phase. The Record of Decision (ROD) on the FEIS documented the Air Force's decision to proceed with PDRR phase ABL home base activities at EAFB, diagnostic test activities over WSMR, and expanded area test activities at VAFB and the PMNAWC Sea Range. Since completion of the FEIS, specific proposed test activities have been identified and additional information made available about the proposed testing that warrant preparation of an SEIS.

FOR FURTHER INFORMATION CONTACT: Ms. Pamelia Bain, Director, External Affairs, Missile Defense Agency, 7100 Defense Pentagon, Washington, DC 20301-7100.

SUPPLEMENTARY INFORMATION: The MDA is developing an ABL element of the Ballistic Missile Defense System (BMDS). The BMDS being developed is intended to provide an effective defense for the United States, its deployed forces, and its friends and allies from limited missile attack, during all segments of an attacking missile's flight. The BMDS includes separate elements to provide a defense during each of the three segments of missile flight. These segments are boost, midcourse, and terminal. While multiple elements could be used to defend against an attack, if necessary, during each of the threat's flight segments, each BMDS element is designed to work separately to provide a militarily significant defense, even if no other BMDS element exists. The ABL element of BMDS is being developed to provide an effective defense to limited ballistic missile threats during the boost segment of an attacking missile's flight. The Air Force began development of the ABL program aircraft in November 1996. In October 2001, ABL was transferred from the Air Force to the Ballistic Missile Defense Organization, which was renamed in January 2002 as the Missile Defense Agency.

Alternatives

Test activities and proposed alternative test locations to be addressed in the SEIS include:

• Ground tests of the ARS, TILL, BILL, and SHEL at KAFB, WSMR/Holloman AFB.

• Flight tests of the ARS, TILL, BILL, SHEL and HEL (i.e., COIL) at WSMR;

• Flight tests of the ARS, TILL, BILL, and HEL at VAFB and the PMNAWC Sea Range; and

• Ground and flight tests of the ARS, TILL, BILL, SHEL, and HEL at EAFB.

As proposed, the ABL aircraft would be housed in an existing hanger at EAFB. EAFB is also where the laser device would be integrated into the aircraft, where ground and flight tests would occur, and where initial flight tests of the aircraft would be performed. The ABL aircraft also would be flown to KAFB to conduct ground testing and would use existing runways at both bases. Additional flight tests would take place at WSMR. Both ground and flight tests would take place at VAFB and the PMNAWC Sea Range. Flight tests that include ABL destruction of a missile are proposed at WSMR and/or VAFB and the PMNAWC Sea Range.

PDRR ABL ground tests¹ are proposed to include tests of individual components, integration of the components on the ABL, and ground test of the integrated ABL. Flight tests are proposed to test each stage of the target acquisition and destruction process. Early flight tests will test the ARS, TILL, and BILL ability to provide accurate tracking and targeting. The flight tests will progress to use of SHEL, and will culminate with tests of the entire ABL element's ability to destroy a representative threat missile using the COIL HEL. Targets for flight tests are proposed to include target boards attached to balloons (MARTI ²) and to piloted aircraft (Proteus ³), sounding rockets, Lance, Black Brant, Aries missiles, and a limited number of representative threat missiles.

¹ Ground tests include rotoplane, billboard, and range simulator targets. The billboard target is a piece of material such as Plexiglas or stainless steel that contains sensors. A rotoplane target is a spinning ground target designed to simulate a missile in flight.

² Missile Alternative Range Target Instrument (MARTI) Drop is a balloon with a target board attached used during flight tests.

³ Proteus Aircraft is a manned aircraft with a target board attached that is used during flight tests.

Although the FEIS (1997) analyzed both ground and flight tests involving the COIL HEL, the majority of these tests have not yet been performed. All tests proposed for the ABL PDRR phase are summarized in the following table. The table includes the tests analyzed in the FEIS which have not yet been performed, as well as additional ground and flight tests required for testing the ARS, TILL, BILL, SHEL, and HEL.

Proposed test location | Type of test | Type of flight engagement for each aircraft: MARTI Drop | Type of flight engagement for each aircraft: Proteus aircraft | Type of flight engagement for each aircraft: Missile launch
VAFB | Flight Tests | 0 | 0 | 25
WSMR/Holloman | Ground/Flight Tests | 50 | 50 | 35
EAFB | Ground/Flight Tests | 50 | 50 | 0
KAFB | Ground Tests | 0 | 0 | 0

Scoping Process

This SEIS will assess environmental issues associated with the proposed action; reasonable alternatives including the no-action alternative; and foreseeable future actions and cumulative effects. Under the No Action alternative, there would be no change to ABL test activities from those documented in the PDRR ABL ROD signed in September 1997. Scoping will be conducted to identify environmental, safety and occupational health issues to be addressed in the SEIS. Public scoping meetings will be held as part of the SEIS preparation process, as described below. Public comments will be solicited to assist in scoping related environmental issues for analysis in the SEIS. Alternatives to the proposed actions may be identified verbally and in writing during the public scoping process.

Location | Date | Place | Time (p.m.)
Lancaster, CA | 4/1/02 | Antelope Valley Inn 44055 North Sierra Highway | 7:00
Lompoc, CA | 4/3/02 | Lompoc City Council Chambers 100 Civic Center Plaza | 7:00
Albuquerque, NM | 4/15/02 | Albuquerque Marriott 2101 Louisiana Boulevard, NE | 7:00
Las Cruces, NM | 4/17/02 | Holiday Inn de Las Cruces 201 E. University Avenue | 7:00

Dated: March 25, 2002.
Patricia L. Toppings,
Alternate OSD Federal Register Liason Officer, Department of Defense.

[FR Doc. 02-7628 Filed 3-26-02; 1:49 pm]

BILLING CODE 5001-08-P